DEPARTMENT OF TRANSPORTATION

Federal Aviation Administration

Public Notice for Waiver of Aeronautical Land-Use Assurance; Austin Straubel International Airport, Green Bay, WI

AGENCY: Federal Aviation Administration, DOT.

ACTION: Notice of intent of waiver with respect to land.

SUMMARY: The Federal Aviation Administration (FAA) is considering a proposal to authorize the release of 3.3334 acres of airport property at the Austin Straubel International Airport, Green Bay, WI.

Brown County, as sponsor of the airport, is seeking to release from compliance with grant assurances two parcels of airport property identified as Parcel nos. 98 and 107, totaling 3.3334 acres. These parcels are located alongside each other in the extreme northwest corner of the airport in the vicinity of the intersection of Pine Tree Road and State Highway 172. Proposed use of the land to be released is construction of a new fire station by the neighboring Village of Hobart to house its emergency response vehicles. The proposed fire station would be located adjacent to the existing village hall.

The 3.334 acres would be provided to the Village of Hobart in exchange for the village vacating 2 parcels of road and road right-of-way totaling 9.367 acres located on, or adjacent to, Austin Straubel International Airport. One parcel contains a roadway section located within the airport security perimeter fence on West Adam Drive and Lonesome Road. The second parcel is a short section of Cyrus Road, located immediately to the south of Runway 36 and within the runway protection zone, but outside of the airport property boundary.

The value to the airport of exchanging airport property for the road and road right-of-way rests with the fact that the Village of Hobart could otherwise mandate the airport to keep the surfaces open and require installation of a fence around the road right-of-ways at an estimated cost to the airport of over $200,000. An additional benefit to the airport of acquiring this 9.367 acres of village-owned property in exchange for the 3.3334 acres of airport-owned property is that this action would provide the airport with a contiguous, airside property boundary.

A categorical exclusion for this land release action was prepared by Wisconsin Dept. of Transportation-Bureau of Aeronautics, and issued by FAA on November 15, 2011.

The airport sponsor purchased the two parcels by voluntary acquisition on June 24, 1998 (Parcel No. 98) and November 1, 2002 (Parcel No. 107). No Federal or State of Wisconsin funds were utilized in the acquisition process.

The aforementioned land is not needed for aeronautical use, as shown on the Airport Layout Plan, conditionally approved on May 16, 2011. There are no impacts to the airport by allowing the airport to dispose of the property.

In accordance with section 47107(h) of title 49, United States Code, this notice is required to be published in the Federal Register 30 days before modifying the land-use assurance that requires the property to be used for an aeronautical purpose.

DATES: Comments must be received on or before January 9, 2012.

ADDRESSES: Mr. Daniel J. Millenacker, Program Manager, Federal Aviation Administration, Airports District Office, 6020 28th Avenue South, Room 102, Minneapolis, MN 55450-2706. Telephone Number (612) 253-4635/FAX Number (612) 253-4611. Documents reflecting this FAA action may be reviewed at the following locations: Federal Aviation Administration, Minneapolis Airports District Office, 6020 28th Avenue South, Room 102, Minneapolis, MN 55450-2706, or at the Wisconsin Department of Transportation, Bureau of Aeronautics, 4802 Sheboygan Ave., Room 701, Madison WI 53707.

FOR FURTHER INFORMATION CONTACT: Mr. Daniel J. Millenacker, Program Manager, Federal Aviation Administration, Airports District Office, 6020 28th Avenue South, Room 102, Minneapolis, MN 55450-2706. Telephone Number (612) 253-4635/FAX Number (612) 253-4611. Documents reflecting this FAA action may be reviewed at the following locations: Federal Aviation Administration, Minneapolis Airports District Office, 6020 28th Avenue South, Room 102, Minneapolis, MN 55450-2706; or at the Wisconsin Department of Transportation, Bureau of Aeronautics, 4802 Sheboygan Ave., Room 701, Madison WI 53707.

SUPPLEMENTARY INFORMATION: Following is a legal description of the subject airport property to be released at Austin Straubel International Airport, Green Bay, Wisconsin:

Parcel No. 98: West 220 feet of N¼ of SW¼, NW¼. Section 1, T23N, R19E, except highway, Village of Hobart, Brown County, Wisconsin.

Parcel No. 107: West 440 feet of North ½ of North ½, SW¼, NW¼, except West 220 feet and except road, Section 1, Township 23 N, R19E, Village of Hobart, Brown County, Wisconsin.

Said parcel subject to all easements, restrictions, and reservations of record.

Issued in Minneapolis, MN on November 17, 2011.
Laurie Suttmeier,
Acting Manager, Minneapolis Airports District Office, FAA, Great Lakes Region.

[FR Doc. 2011-31459 Filed 12-7-11; 8:45 am]

BILLING CODE 4910-13-P